DEPARTMENT OF ENERGY

Federal Energy Regulatory Commission

Notice of Application for Amendment of License and Soliciting Comments, Motions To Intervene, and Protests

April 24, 2003.

Take notice that the following application has been filed with the Commission and is available for public inspection:

a. Applicant Type: Amendment of License to Change Project Boundary.

b. Project Nos.: 2497-006 and 2771-006.

c Date Filed: April 17, 2003.

d. Applicant: Harris Energy and Realty Corporation.

e. Name of Projects: Mt. Tom Mill Project and Nonotuck Mill Project.

f. Location: The Mt. Tom Mill Project is located on the Holyoke Canal, in Hampden County, Massachusetts. The Nonotuck Mill is located on the Second Level Canal of the Holyoke Canal system off of the Connecticut River, in Hampden County, Massachusetts.

g. Filed Pursuant to: Federal Power Act, 16 U.S.C. 791(a)-825 (r) and 799 and 801.

h. Applicant Contact: Mr. Ira Belsky, President, Harris Energy and Realty Corporation, 20 Water Street, Holyoke, Mass. 01040, (413) 536-6410. June Broadstone, Esq., Skadden, Arps, Slate, Meagher and Flom, 1440 New York Ave., NW., Washington, DC 20005, (202) 371-7772.

i. FERC Contact: Any questions on this notice should be addressed to Etta Foster at (202) 502-8769, or e-mail address: etta.foster@ferc.gov.

j. Deadline for filing comments and/or motions: May 12, 2003.

The Commission's Rules of Practice and Procedure require all interveners filing a document with the Commission to serve a copy of that document on each person in the official service list for the project(s). Further, if an intervener files comments or documents with the Commission relating to the merits of an issue that may affect the responsibilities of a particular resource agency, they must also serve a copy of the documents on that resource agency.

k. Description of Proposed Action: The licensee proposes to donate and convey certain land and property not needed to operate, or maintain the projects to the New England Adolescent Research Institute, a Massachusetts not-for-profit corporation.

P-2497 consists of: (1) a gated intake with submerged trashracks located on the Second Level Canal, (2) a 230-foot-long , 8-foot-diameter steel penstock; (3) a single runner, Francis turbine directly coupled to a 500-kilowatt (kW) Westinghouse generator; (4) a 205-foot-long, 9-foot-wide by 6-foot-high arched, brick-lined tailrace tunnel; (5) a concrete gated outlet structure where the tailwater empties into a channel that leads to the Connecticut River; (6) a 0.6-kilovolt (kV), 240-foot-long transmission line, and a 13.8-kV, 90-foot-long transmission line and (7) appurtenant facilities.

P-2771 consists of: (1) a gated intake with submerged trashracks located on the second level canal; (2) a 10.5-foot-diameter penstock 225 feet long; (3) a 500-kW generating unit located in Nonotuck Mill building; (4) a two parallel 9-foot-wide by 9-foot-high arched brick-lined tailrace tunnel 190 feet long extending from the draft tube to an existing concrete outlet structure; (5) a concrete gated outlet structure where the tailwater empties into a channel that leads to the Connecticut River; (6) a 13.8-kV transmission line and (7) appurtenant facilities.

1. Location of the Application: The filings are available for review at the Commission in the Public Reference Room or may be viewed on the Commission's Web site at http://www.ferc.gov using the “FERRIS” link. Enter the docket number excluding the last three digits in the docket number field to access the document. For assistance, call toll-free 1-866-208-3676 or e-mail FERCOnlineSupport@ferc.gov, or for TTY, contact (202) 502-8659. A copy is also available for inspection and reproduction at the addresses in item (h).

m. Individuals desiring to be included on the Commission's mailing list should so indicate by writing to the Secretary of the Commission.

n. Comments, Protests, or Motions to Intervene-Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents-Any filings must bear in all capital letters the title “COMMENTS”, “PROTEST”, OR “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments-Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-filing” link.

Magalie R. Salas,
Secretary.

[FR Doc. 03-10623 Filed 4-29-03; 8:45 am]

BILLING CODE 6717-01-P